DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 47397-47399 dated August 8, 2012).

This notice reflects organizational changes in the Health Resources and Services Administration. This notice updates the functional statement for the Bureau of Clinician Recruitment and Service (RU). Specifically, this notice: (1) Transfers the function of the National Health Service Corps Site Branch (RU51) to the Division of Regional Operations (RU10); and (2) updates the functional statement for the Division of National Health Service Corps (RU5) and the Division of Regional Operations (RU10).

Chapter RU—Bureau of Clinician Recruitment and Service

Section RU-10, Organization

The Office of the Associate Administrator (RU) is headed by the Associate Administrator, Bureau of Clinician Recruitment and Service (BCRS), who reports directly to the Administrator, Health Resources and Services Administration. BCRS includes the following components:

(1) Office of the Associate Administrator (RU);

(2) Office of Legal and Compliance (RU1);

(3) Division of National Health Service Corps (RU5);

(4) Division of Nursing and Public Health (RU6);

(5) Division of External Affairs (RU7);

(6) Office of Policy and Program Development (RU8);

(7) Division of Program Operations (RU9);

(8) Division of Regional Operations (RU10); and

(9) Office of Business Operations (RU11).

Section RU-20, Functions

(1) Delete the functional statement for the Division of National Health Service Corps (RU5) and replace in its entirety; and (2) delete the functional statement for the Division of Regional Operations (RU10) and replace in its entirety.

Division of National Health Service Corps (RU5)

Serves as the point of contact for responding to inquiries, disseminating program information, providing technical assistance, and processing applications and awards pertaining to the National Health Service Corps (NHSC) scholarship and loan repayment programs and site approvals. Specifically: (1) Reviews, ranks and selects participants for the scholarship and loan repayment programs; (2) verifies and processes loan and lender related payments in prescribed manner and maintains current information on scholarship and loan repayment applications and awards through automated BCRS information systems; (3) manages scholar in-school activities; (4) administers the NHSC State Loan Repayment Program; and (5) provides oversight, processing and coordination for the Ready Responder program.

Division of Regional Operations (RU10)

Serves as the regional component of BCRS cutting across all Divisions and working with BCRS programs as a whole. Specifically, the Regional Offices support BCRS by: (1) Completing NHSC site visits and providing technical assistance to sites; (2) reviewing and approving/disapproving NHSC site applications and recertification's; (3) providing support for recruitment and retention of primary health care providers in Health Professions Shortage Areas; (4) managing the scholar placement process; and (5) coordinating with state-level partners to support BCRS programs.

Section RU-30, Delegations of Authority

All delegations of authority and re-delegations of authority made to HRSA officials that were in effect immediately prior to this reorganization, and that are consistent with this reorganization, shall continue in effect pending further re-delegation.

This reorganization is effective upon date of signature.

Dated: July 29, 2012.
Mary K. Wakefield,
Administrator.

[FR Doc. 2012-19939 Filed 8-13-12; 8:45 am]

BILLING CODE 4165-15-P